DEPARTMENT OF COMMERCE

United States Patent and Trademark Office

[Docket No. PTO-P-2014-0046]

Notice on Roundtable on International Harmonization of Substantive Patent Law

AGENCY: United States Patent and Trademark Office, Commerce.

ACTION: Notice of roundtable.

SUMMARY: The United States Patent and Trademark Office (USPTO) is seeking input on certain matters relating to the international harmonization of substantive patent law. In view of the importance of harmonization of substantive patent law to the successful reutilization of the examination work of one intellectual property office by another, or work sharing, the USPTO is particularly interested in stakeholder comments on the following key patent examination-related issues: The definition and scope of prior art; the grace period; and standards for assessing novelty and obviousness/inventive step. To assist in gathering this information, the USPTO is holding a public roundtable which interested members of the public are invited to attend.

DATES: The roundtable will be held on November 19, 2014. The roundtable will begin at 8:30 a.m. and end at 12:00 p.m.

ADDRESSES: The roundtable will be held at the United States Patent and Trademark Office, Madison Building, 600 Dulany Street, Alexandria, Virginia 22314.

FOR FURTHER INFORMATION CONTACT: For further information regarding the roundtable, please contact Summer Kostelnik or Elizabeth Shaw at the Office of Policy and International Affairs, by telephone at (571) 272-9300, by email at IP.Policy@uspto.gov, or by postal mail addressed to: Mail Stop OPIA, United States Patent and Trademark Office, P.O. Box 1450, Alexandria, VA 22313-1450, ATTN: Summer Kostelnik or Elizabeth Shaw. Please direct all media inquiries to the Office of the Chief Communications Officer, USPTO, at (571) 272-8400.

SUPPLEMENTARY INFORMATION:

1. Background

The United States has participated in several international efforts to harmonize substantive patent law across different jurisdictions. The most recent discussions toward this end have been conducted under the auspices of the “Tegernsee Group,” which is comprised of the leaders and patent law experts from the patent offices of Denmark, France, Germany, Japan, the United Kingdom, and the United States, as well as from the European Patent Office. The Group was formed in 2011 to consider the state of patent law harmonization and to facilitate progress toward greater harmonization by means of fact finding and information gathering. The Group published a Final Report in June 2014, consolidating stakeholder views on key issues across various jurisdictions. The Final Report, entitled “Consolidated Report on the Tegernsee User Consultation on Substantive Patent Law Harmonization,” is available for review at http://www.uspto.gov/ip/global/patents/tegernsee_survey/teg-final_consol_report_june_2014.pdf. The Tegernsee Group is currently on hiatus pending further developments.

In parallel with the Tegernsee Group discussions and earlier efforts focused on substantive harmonization, the USPTO has also been engaged with other patent offices on several work sharing initiatives, such as the Patent Prosecution Highway. Work sharing allows one office to leverage work done by another office on a corresponding application in order to improve quality and reduce duplicative search and examination efforts. Substantive harmonization can enhance the effectiveness of work sharing by better aligning the patentability standards of the various offices, thereby making it easier for those offices to use one another's work.

2. Issues for Public Comment

Past studies and experiences indicate that the areas of substantive law that are most relevant for work-sharing purposes are those related to the search and application of prior art. That is because prior art is determinative of patentability in most cases, and because prior art searching is a critical aspect of the examination process. Accordingly, the USPTO is particularly interested in stakeholder views on the following key patent examination-related issues: The definition and scope of prior art; the grace period; and standards for assessing novelty and obviousness/inventive step.

The roundtable will begin with an introduction on the current state of play of substantive harmonization efforts including an update on the work of the Tegernsee Group. The roundtable will continue with a panel discussion consisting of two sessions. The first session will include a discussion on the substantive harmonization issues most suitable for further progress, with a particular focus on those key patent examination-related issues: Definition of prior art; prior art effect of published applications; prior art not affecting patentability (grace period), and conditions for patentability—novelty and obviousness/inventive step. During the second session, the USPTO is interested in hearing stakeholder views as to how to best advance substantive patent law harmonization discussions.

Time will be reserved at the end of each session for interested members of the public to comment upon the topics discussed. Individuals interested in serving as a panelist should submit their name, contact information (telephone number and email address), the name of the organization(s) the person represents, if any, relevant biographical information as it pertains to the topic(s) to be discussed during the session(s), and a few brief comments on the topic(s) to IP.Policy@uspto.gov before October 24, 2014. Panelists will be selected approximately two weeks in advance of the roundtable.

Instructions and Information on the Public Roundtable

The roundtable will be held on November 19, 2014, at the United States Patent and Trademark Office, Madison Building, 600 Dulany Street, Alexandria, Virginia 22314. The roundtable will begin at 8:30 a.m. and end at 12:00 p.m. The agenda and Web cast information will be available a week before the roundtable on the USPTO's Office of Policy and International Affairs Web site at http://www.uspto.gov/ip/officechiefecon/hearings_round_tables.jsp. Registration is available at http://events.SignUp4.com/Patharm. Attendees may also register at the door. Sign in will commence at 8:00 a.m. prior to the beginning of the roundtable.

The roundtable will be physically accessible to people with disabilities. Individuals requiring accommodation, such as sign language interpretation or other ancillary aids, should communicate their needs to Hollis Robinson at the Office of Policy and International Affairs, by telephone at (571) 272-9300, by email at hollis.robinson@uspto.gov, or by postal mail addressed to: Mail Stop OPIA, United States Patent and Trademark Office, P.O. Box 1450, Alexandria, VA 22313-1450, ATTN: Hollis Robinson, at least seven (7) business days prior to the roundtable.

Dated: September 12, 2014.
Michelle K. Lee,
Deputy Under Secretary of Commerce for Intellectual Property and Deputy Director of the United States Patent and Trademark Office.

[FR Doc. 2014-22222 Filed 9-17-14; 8:45 am]

BILLING CODE 3510-16-P